DEPARTMENT OF COMMERCE

International Trade Administration

[A-357-812]

Honey From Argentina; Extension of Time Limit for Preliminary Results of New Shipper Review

AGENCY: Import Administration, International Trade Administration, Department of Commerce.

ACTION: Notice of extension of time limits.

SUMMARY: The Department of Commerce (the Department) is extending the time limit for the preliminary results of the 2001-2002 new shipper review of the antidumping duty order on honey from Argentina. This new shipper review covers one exporter of the subject merchandise to the United States and the period May 11, 2001 through November 30, 2002.

EFFECTIVE DATE: July 14, 2003.

FOR FURTHER INFORMATION CONTACT: Angela Strom at (202) 482-2704 or Donna Kinsella at (202) 482-0194, Antidumping and Countervailing Duty Enforcement Group III, Office Eight, Import Administration, International Trade Administration, U.S. Department of Commerce, 14th Street and Constitution Avenue NW., Washington, DC 20230.

SUPPLEMENTARY INFORMATION: On February 6, 2003, in response to a request from Nutrin S.A., the exporter, and Nutrin Corporation, its affiliated U.S. company (collectively, “Nutrin”), we published a notice of initiation of this new shipper antidumping duty administrative review in the Federal Register. See Honey from Argentina: Initiation of New Shipper Antidumping Duty Administrative Review, 68 FR 6114. Pursuant to the time limits for administrative reviews set forth in section 751(a)(3)(A) of the Tariff Act of 1930, as amended (the Tariff Act), the current deadlines are July 30, 2003 for the preliminary results and October 28, 2003 for the final results. It is not practicable to complete this review within the normal statutory time limit due to a number of significant case issues, such as sales below cost, high inflation, currency devaluation, and the bona fides of the transaction under review. Therefore, the Department is extending the time limit for completion of the preliminary results until November 28, 2003 in accordance with section 751(a)(3)(A) of the Tariff Act. The deadline for the final results of this review will continue to be 90 days after publication of the preliminary results.

This extension is in accordance with section 751(a)(3)(A) of the Tariff Act (19 U.S.C. 1675 (a)(3)(A) (2001)).

Dated: July 8, 2003.
Barbara E. Tillman,
Acting Deputy Assistant Secretary for Import Administration, Group III.

[FR Doc. 03-17748 Filed 7-11-03; 8:45 am]

BILLING CODE 3510-DS-P